DEPARTMENT OF AGRICULTURE

Rural Business-Cooperative Service

[Docket Number: RBS-22-BUSINESS-0013]

Notice of Request for Revision of a Currently Approved Information Collection; Comments Requested

AGENCY: Rural Business-Cooperative Service, USDA.

ACTION: Proposed collection and request for comments.

SUMMARY: In accordance with the Paperwork Reduction Act of 1995, the Rural Business-Cooperative Service, an agency of the United States Department of Agriculture's (USDA), invites comments on this information collection for which the Agency intends to request approval from the Office of Management and Budget (OMB).

DATES: Comments on this notice must be received by September 6, 2022.

FOR FURTHER INFORMATION CONTACT: Lynn Gilbert, Rural Development Innovation Center—Regulations Management Division, USDA, 1400 Independence Avenue SW, South Building, Washington, DC 20250-1522. Telephone: (202) 690-2682. Email lynn.gilbert@usda.gov

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including through the use of appropriate automated, electronic, mechanical, or other technological collection techniques on other forms and information technology. Comments may be sent as follows:

Federal eRulemaking Portal: Go to https://www.regulations.gov and, in the “Search” box, type in the Docket No.RBS-22-BUSINESS-0013. A link to the Notice will appear. You may submit a comment here by selecting the “Comment” button or you can access the “Docket” tab, select the “Notice,” and go to the “Browse & Comment on Documents” Tab. Here you may view comments that have been submitted as well as submit a comment. To submit a comment, select the “comment” button, complete the required information, and select the “Submit Comment” button at the bottom. Information on using Regulations.gov, including instructions for accessing documents, submitting comments, and viewing the docket after the close of the comment period, is available through the site's “FAQ” link at the bottom. Comments on this information collection must be received by September 6, 2022.

Title: 7 CFR PART 4280-E, Rural Business Development Grants.

OMB Control Number: 0570-0070.

Type of Request: Revision of currently approved package.

Abstract: The Agricultural Act of 2014, Public Law 113-79 (2014 Farm Bill) (7 U.S.C. 1932(c)), authorizes the Rural Business Development Grant (RBDG) program to facilitate the development of small and emerging private businesses, industries, and related employment as well as identifying and analyzing business opportunities, establishing business support centers, and providing training, technical assistance, and planning for improving the economy in rural communities. The regulations contain requirements that involve information collection activities, including organizational documents, recordkeeping, scope of work, budgets, project plan, appraisal reports, audit reports, selection priorities narrative, appealing denial of grant application, consultations, small business plan evidence, experience documentation, financial information, funding source documentation, performance reports and financial assistance plans.

Estimate of Burden: Public reporting burden for this collection of information is estimated to average 4.65 hours per responses.

Estimated Number of Respondents: 920.

Estimated Number of Total Annual Responses: 12,847.

Estimated Number of Total Annual Responses per Respondents: 13.96.

Estimated Total Annual Burden on Respondents: 59,823.

Copies of this information collection can be obtained from Lynn Gilbert, Rural Development Innovation Center-Regulatory Team, at (202) 690-2682. Email: lynn.gilbert@usda.gov.

All responses to this information collection and recordkeeping notice will be summarized and included in the request for OMB approval. All comments will also become a matter of public record.

Karama Neal,
Administrator, Rural Business Cooperative Service.

[FR Doc. 2022-14519 Filed 7-7-22; 8:45 am]

BILLING CODE 3410-XY-P